PENSION BENEFIT GUARANTY CORPORATION

Submission of Information Collection for OMB Review; Comment Request; Disclosure of Termination Information

AGENCY: Pension Benefit Guaranty Corporation.

ACTION: Notice of request for OMB approval.

SUMMARY: Pension Benefit Guaranty Corporation (PBGC) is requesting that the Office of Management and Budget (OMB) approve, under the Paperwork Reduction Act, a collection of information on the disclosure of termination information under its regulations for distress terminations, 29 CFR part 4041, subpart C, and for PBGC-initiated terminations under 29 CFR part 4042 (OMB control number 1212-0065; expires October 31, 2011). This notice informs the public of PBGC's request and solicits public comment on the collection of information that must be provided by plan administrators and plan sponsors to affected parties upon request.

DATES: Comments should be submitted by July 28, 2011.

ADDRESSES: Comments should be sent to the Office of Information and Regulatory Affairs, Office of Management and Budget, Attention: Desk Officer for Pension Benefit Guaranty Corporation, via electronic mail at OIRA_DOCKET@omb.eop.gov or by fax to (202) 395-6974.

Copies of the request (including the collection of information) may be obtained without charge by writing to the Disclosure Division of the Office of the General Counsel of PBGC at the above address, visiting the Disclosure Division, faxing a request to 202-326-4042, or calling 202-326-4040 during normal business hours. (TTY and TDD users may call the Federal relay service toll-free at 1-800-877-8339 and ask to be connected to 202-326-4040). The Disclosure Division will e-mail, fax, or mail the request to you, as you request.

The regulations and instructions relating to this collection of information may be accessed on PBGC's Web site at http://www.pbgc.gov.

FOR FURTHER INFORMATION CONTACT: Jo Amato Burns, Attorney, or Catherine B. Klion, Manager, Legislative and Regulatory Department, Pension Benefit Guaranty Corporation, 1200 K Street, NW., Washington, DC 20005, 202-326-4024. (For TTY and TDD, call 800-877-8339 and ask to be connected to 202-326-4024.)

SUPPLEMENTARY INFORMATION: Sections 4041 and 4042 of the Employee Retirement Income Security Act of 1974, as amended (ERISA), 29 U.S.C. 1301-1461, govern the termination of single-employer defined benefit pension plans that are subject to Title IV of ERISA. A plan administrator may initiate a distress termination pursuant to section 4041(c), and PBGC may itself initiate proceedings to terminate a pension plan under section 4042 if PBGC determines that certain conditions are present. Sections 4041 and 4042 of ERISA were amended by Section 506 of the Pension Protection Act of 2006 (Pub. L. 109-280) to require that, upon a request by an affected party—

• A plan administrator must disclose information it has submitted to PBGC in connection with a distress termination filing, and

• A plan administrator or plan sponsor must disclose information it has submitted to PBGC in connection with a PBGC-initiated termination.

PBGC is also required to disclose the administrative record relating to a PBGC-initiated termination upon request by an affected party. The above provisions are applicable to terminations initiated on or after August 17, 2006. The applicable regulatory provisions can be found at 29 CFR 4041.51 and 4042.5.

A description of the current disclosure provisions for distress terminations can be found on PBGC's Web site at http://www.pbgc.gov/Documents/Disclosure_of_Distress_Termination_Information.pdf.

This collection of information has been approved by OMB under control number 1212-0065 (expires October 31, 2011). PBGC is requesting that OMB extend its approval for three years, without change. An agency may not conduct or sponsor, and a person is not required to respond to, a collection of information unless it displays a currently valid OMB control number.

Based on its experience and information from practitioners, PBGC estimates that three participants or other affected parties will annually make requests for termination information. PBGC estimates that the total annual burden for the collection of information will be about 45 hours and $900 (15 hours and $300 per request).

Issued in Washington, DC, this 22nd day of June 2011.
John H. Hanley,
Director, Legislative and Regulatory Department, Pension Benefit Guaranty Corporation.

[FR Doc. 2011-16157 Filed 6-27-11; 8:45 am]

BILLING CODE 7709-01-P